DEPARTMENT OF ENERGY

Federal Energy Regulatory Commission

[Project No. 3932-011]

Hydrodyne Industries, LLC; Hydrodyne Energy, LLC; Notice of Transfer of Exemption

1. By letter filed January 17, 2018, George S. Cook, Manager, Hydrodyne Industries, LLC, exemptee and Michael Rickly P.E., Manager, Hydrodyne Energy, LLC informed the Commission that the exemption from licensing for the Little River Hydroelectric Project No. 3932, originally issued May 4, 1982 ¹ has been transferred to Hydrodyne Energy, LLC. The project is located on the Little River in Montgomery County, North Carolina. The transfer of an exemption does not require Commission approval.

¹ Order Granting Exemption From Licensing of a Small Hydroelectric Project of 5 Megawatts or Less. American Hydro Power Company, 19 FERC ¶ 62,191 (1982).

2. Hydrodyne Energy, LLC is now the exemptee of the Little River Hydroelectric Project No. 3932. All correspondence should be forwarded to: Mr. Michael Rickly P.E., Manager, Hydrodyne Energy, LLC, 1700 Joyce Ave., Columbus, OH 43219, Phone: 614-297-9877, Cell: 614-648-2466, Fax: 614-297-9878, Email: mike@rickly.com.

Dated: January 30, 2018.
Kimberly D. Bose,
Secretary.

[FR Doc. 2018-02241 Filed 2-2-18; 8:45 am]

BILLING CODE 6717-01-P